DEPARTMENT OF HEALTH AND HUMAN SERVICES

Office of Inspector General

Program Exclusions: April 2005

AGENCY: Office of Inspector General, HHS.

ACTION: Notice of program exclusions.

During the month of April 2005, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions:
Aguiluz, Amable | Whittier, CA | 5/19/2005
Alvis, Sandra | Pennsauken, NJ | 5/19/2005
Antoine L Garabet, MD, Inc | Glendora, CA | 5/19/2005
Avello, Alexis | Miami Beach, FL | 5/19/2005
Beal, Darlene | Tulsa, OK | 5/19/2005
Bisig, Peggy | Lexington, KY | 5/19/2005
Blake, Christine | Alpharetta, GA | 5/19/2005
Bolshinsky, Igor | Potomac, MD | 5/19/2005
Bondar, Raisa | Mequon, WI | 5/19/2005
Brooks, Antonio | Washington, NC | 5/19/2005
Brown, Joseph | Florence, SC | 5/19/2005
Chand, Puran | Stanton, CA | 5/19/2005
Coughlin, Daniel | Metairie, LA | 5/19/2005
Cullen, Linda | Kailua Kona, HI | 5/19/2005
Cushing, Monica | Barre, VT | 5/19/2005
Daniels, Salmon | Los Angeles, CA | 5/19/2005
Deguzman, Maria | Cerrutis, CA | 5/19/2005
Doll, Charles | Jacksonville, FL | 2/11/2005
Esposito, Michelina | Portland, ME | 5/19/2005
Fosness, Christopher | Mitchell, SD | 5/19/2005
Garabet, Antoine | Glendora, CA | 5/19/2005
Gokhman, Boris | Mequon, WI | 5/19/2005
Goulette, Billy | Long Beach, CA | 5/19/2005
Hall, Harry | Labelle, FL | 5/19/2005
Igbinaduwa, Newton | Jamaica, NY | 5/19/2005
Jamias, Alexander | Buena Park, CA | 5/19/2005
Jani, Axat | Saddle River, NJ | 5/19/2005
Jimenez, Jose | Camden, NJ | 5/19/2005
Johnson, Paul | Loma, CO | 5/19/2005
Legro, Danny | Chehalis, WA | 5/19/2005
Lemieux, India | Gretna, LA | 5/19/2005
Lisak, Alla | Bayside, WI | 5/19/2005
Mailyan, Melik | Burbank, CA | 5/19/2005
Melendez, Juanita | Camden, NJ | 5/19/2005
Moore, Garyl | York, PA | 5/19/2005
Munoz, Cynthia | Phoenix, AZ | 5/19/2005
Myaskovskaya, Valentina | Milwaukee, WI | 5/19/2005
Panshi, Surinder | Wasco, CA | 5/19/2005
Passamonte, Christopher | Camp Hill, PA | 5/19/2005
Ramos, Robert | Carolina, PR | 5/19/2005
Reyes-Lopez, Harry | Hatillo, PR | 5/19/2005
Rizzo, Kenneth | Goshen, NY | 5/19/2005
Salas, Patricia | Las Cruces, NM | 5/19/2005
Salvo, Mark | Glendale, CA | 5/19/2005
Schoenborn, Mark | Ponte Verdra Beach, FL | 2/11/2005
Skrinskaya, Natailya | Silver Spring, MD | 5/19/2005
TBC Products, Inc | Golden Valley, MN | 11/12/2004
Tirakian, Harutyun | Glendale, CA | 5/19/2005
Turner, Jessie | Chickasha, OK | 5/19/2005
Vann, Sinnaro | Long Beach, CA | 5/19/2005
Walton, Wanda | Vallejo, CA | 5/19/2005
Winding, Devona | New Orleans, LA | 5/19/2005
Yelin, Bella | Mequon, WI | 5/19/2005
Zarlengo, Phillip | Littleton, CO | 5/19/2005
Felony Conviction for Health Care Fraud:
Budenske, Jerry | Oklahoma City, OK | 5/19/2005
Faulkner, Glenna | Ewing, KY | 5/19/2005
Fox, Calvin | Tucson, AZ | 5/19/2005
Hinds, Sandra | Wheaton, MD | 5/19/2005
Holliday, Gregory | Bethany, OK | 5/19/2005
Hunt, Kimberly | Oxnard, CA | 5/19/2005
Jango, Angela | Newport News, VA | 5/19/2005
Libson, Todd | Simi Valley, CA | 5/19/2005
Moore, Nicole | Broken Arrow, OK | 5/19/2005
Pickering, Joanne | Tucson, AZ | 5/19/2005
Ray, Natacha | Broken Arrow, OK | 5/19/2005
Sanders, Marvin | Charlottsville, VA | 5/19/2005
Santamaria, Rene | Apache Junction, AZ | 5/19/2005
Schneider, Harvey | Norton, MA | 5/19/2005
Thompson, Kimberly | Danville, KY | 5/19/2005
Felony Control Substance Conviction:
Allen, Jana | Kansas City, MO | 5/19/2005
Aulner, Kathleen | Norfolk, NE | 5/19/2005
Breece, Robin | Groves, TX | 5/19/2005
Chaussee, Mary | Rocklin, CA | 5/19/2005
Christensen, Kim | Mema, AZ | 5/19/2005
Davis, Keri | Flower Mound, TX | 5/19/2005
Fanning, James | Sherman, TX | 5/19/2005
Friedman, Eugene | Port Jefferson, NY | 5/19/2005
Greening, Brian | Edinburg, TX | 5/19/2005
Haskins, Tammy | Midland, TX | 5/19/2005
Hermann, Raymond | Vancouver, WA | 5/19/2005
Johnson, Karen | Blue Ridge, GA | 5/19/2005
Libengood, Stacey | Clearwater, FL | 5/19/2005
Moore, Janet | Gainesville, GA | 5/19/2005
Moore, Mary | Painesville, OH | 5/19/2005
Morelli, Timothy | Mercer, PA | 5/19/2005
Palladini, Michael | Beaver, PA | 5/19/2005
Renteria, Jeanette | Burleson, TX | 5/19/2005
Sibley, Leslie | Tulsa, OK | 5/19/2005
Spencer, Verinda | Houston, TX | 5/19/2005
Stanton, James | Houston, TX | 5/19/2005
Ushio, Keri-Ann | Honolulu, HI | 5/19/2005
Varalli, Daniel | Beaver, WV | 5/19/2005
Wein, Fred | Brooklyn, NJ | 5/19/2005
Wisby, Amy | Hamersville, OH | 5/19/2005
Patient Abuse/Neglect Convictions:
Bemah, Elisha | Washington, DC | 5/19/2005
Cage, Christine | Chillicothe, MO | 5/19/2005
Chrisman, Christopher | Del City, OK | 5/19/2005
Cotten, Bradley | Canon City, CO | 5/19/2005
Davis, Rose | Santa Fe, NM | 5/19/2005
Garay, Rosalinda | Salt Lake City, UT | 5/19/2005
Harris, Linda | Henryetta, OK | 5/19/2005
Henry, Jonathan | Malone, FL | 5/19/2005
Hewuse, Roselyn | Green Bay, WI | 5/19/2005
Jobes, Philip | Towson, MD | 5/19/2005
Johnson, Arlin | Oklahoma City, OK | 5/19/2005
Jones, David | Hodgen, OK | 5/19/2005
Kizziar, Mary | Fairfax, OK | 5/19/2005
Lomas, Terena | Grove, OK | 5/19/2005
Myers, Roger | Trainer, PA | 5/19/2005
Quintero, Mary | Denver, CO | 5/19/2005
Russell, Barbara | Sallisaw, OK | 5/19/2005
Rutherford, Helen | Ruston, LA | 5/19/2005
Simpson, Jimmy | Bartlesville, OK | 5/19/2005
Smith, Ada | Pearl, MS | 5/19/2005
Stultz, Helen | Hugo, OK | 5/19/2005
Thomas, Annamma | Yonkers, NY | 5/19/2005
Topel, Lisa | Chillicothe, MO | 5/19/2005
Torrez, Pearl | Tulsa, OK | 5/19/2005
Turner, Barbara | Louin, MS | 5/19/2005
Valenzula, Carlos | Los Angeles, CA | 5/19/2005
Watters, Winifred | Visalia, CA | 5/19/2005
Wolos, Jeffrey | Swartz Creek, MI | 5/19/2005
Woolen, James | Washington, DC | 5/19/2005
Conviction for Health Care Fraud:
Poehlman, Eric | Quebec, H2L3R8, | 3/17/2005
License Revocation/Suspension/Surrendered:
Agygman, Osei | Pomona, CA | 5/19/2005
Albus, Rhonda | Knox City, TX | 5/19/2005
Alexander, Anu | Tucson, AZ | 5/19/2005
Alexander, Julie | Cherry Hill, NJ | 5/19/2005
Allen, Chandra | Trotwood, OH | 5/19/2005
Ambrose, Dean | Merchantville, NY | 5/19/2005
Archer, Teresa | Johnson City, TN | 5/19/2005
Arvesen Aebischer, Barbara | San Diego, CA | 5/19/2005
Baker, Patrick | Corona, CA | 5/19/2005
Benninger, Kimberly | Los Angeles, CA | 5/19/2005
Benson, Tracy | Murray, UT | 5/19/2005
Boulos-Pludowski, Georgeann | Phillipsburg, NJ | 5/19/2005
Bowyer, Marvin | St Louis, MO | 5/19/2005
Boyer, Bethany | Valrico, FL | 5/19/2005
Bradshaw, Minnie | Columbia, SC | 5/19/2005
Brennan, Patricia | Punta Gorda, FL | 5/19/2005
Britton, Cory | St George, UT | 5/19/2005
Brown, Alexandria | Williamstown, NJ | 5/19/2005
Brown, Dana | Mount Olive, AL | 5/19/2005
Bruce, Julie | Indianapolis, IN | 5/19/2005
Bryant, Mark | Jasper, AL | 5/19/2005
Bullock, Keith | Detroit, MI | 5/19/2005
Cabatic, Virginia | Randolph, NJ | 5/19/2005
Carlson, Craig | Minneapolis, MN | 5/19/2005
Caron, Marleen | Lincoln, NH | 5/19/2005
Carranto, Manuel | Riverside, CA | 5/19/2005
Carter, Lynda | Loudon, NH | 5/19/2005
Casey, Terry | Covington, KY | 5/19/2005
Chagnon, Stephen | Glens Falls, NY | 5/19/2005
Chard, Suzanne | Parker, CO | 5/19/2005
Charlera, Marie | Boynton Beach, FL | 5/19/2005
Charzewski, Stanley | Staten Island, NY | 5/19/2005
Childers, Stella | Muskogee, OK | 5/19/2005
Clark, Diane | Longmont, CO | 5/19/2005
Cochran, Stephanie | Hackleburg, AL | 5/19/2005
Cohen, Veronica | Lansdowne, PA | 5/19/2005
Collins, Cindy | North Vernon, IN | 5/19/2005
Combs, Vontella | Bulan, KY | 5/19/2005
Cook, Anthony | Beaver, WV | 5/19/2005
Couch, Joann | Bullhead City, AZ | 5/19/2005
Crayton, Donna | Alliance, OH | 5/19/2005
Cruz, Rosalito | Carson, CA | 5/19/2005
Daniels, Arthur | Phoenix, AZ | 5/19/2005
Daniels, James | Panama City, FL | 5/19/2005
Donegan, Kathleen | Yuma, AZ | 5/19/2005
Driscoll, Debra | N Hollywood, CA | 5/19/2005
Duffy, William | Mahtomedi, MN | 5/19/2005
Duncan, Kimberly | Pisgah Forest, NC | 5/19/2005
Ecker, Betty L | Lufkin, TX | 5/19/2005
EdInbyrd, Geraldine | San Bernardino, CA | 5/19/2005
Edwards, David | Salt Lake City, UT | 5/19/2005
Edwards, Michael | Tarzana, CA | 5/19/2005
Egloff, Mary | Farmingdale, NJ | 5/19/2005
Elder, Kimberly | Marshall, AR | 5/19/2005
Ellison, Amy | Anniston, AL | 5/19/2005
Eskue, Phyllis | Kilgore, TX | 5/19/2005
Esmay, Kristine | Prescott, AZ | 5/19/2005
Evans, Catherine | Hager Hill, KY | 5/19/2005
Ferry, Lois | Cincinnati, OH | 5/19/2005
Fiala, Robin | Manchester, NH | 5/19/2005
Foy, Brian | Melbourne, FL | 5/19/2005
Ghory, Farooq | Winter Park, FL | 5/19/2005
Gill, Joyce | Cincinnati, OH | 5/19/2005
Griesemer, Chantal | Ballston Lake, NY | 5/19/2005
Guardipee, Josette | Pueblo, CO | 5/19/2005
Hart, Eva | Galena, KS | 5/19/2005
Hart, Kelly | Verona, PA | 5/19/2005
Harvan, Roberto | Glendale, AZ | 5/19/2005
Haskie, Julie | Chinle, AZ | 5/19/2005
Hatfield, Benjamin | Knoxville, TN | 5/19/2005
Hill, Beverly | Phoenix, AZ | 5/19/2005
Hopkins, Mary | Clute, TX | 5/19/2005
Horwitz, Harlene | Oklahoma City, OK | 5/19/2005
Hughes, Joyce | Las Vegas, NV | 5/19/2005
Hunter, Angela | Gainesboro, TN | 5/19/2005
Illingworth, Donna | Forked River, NJ | 5/19/2005
Ingles, Sandra | Palm Desert, CA | 5/19/2005
James, Nicholas | Phoenix, AZ | 5/19/2005
Jarke, Cheryl | Rittman, OH | 5/19/2005
Johnson, Anthony | Beverly Hills, CA | 5/19/2005
Johnson, Callie | Tulsa, OK | 5/19/2005
Johnson, Mary | Taft, CA | 5/19/2005
Junge, Rebecca | Saint Louis, MO | 5/19/2005
Kahalioumi, Ronald | Modesto, CA | 5/19/2005
Kaplan, Claudette | Port Orchard, WA | 5/19/2005
Katzorke, Michael | Sioux Falls, SD | 5/19/2005
Kee, Jimmy | Huntingdon, TN | 5/19/2005
Kessler, Susan | Tamarac, FL | 5/19/2005
Kirkpatrick, Molly | Punta Gorda, FL | 5/19/2005
Koscinski, Charles | Downey, CA | 5/19/2005
Kovar, Grace | Brick, NJ | 5/19/2005
Kroeger, Susan | Evansville, IN | 5/19/2005
Kurtz, Joel | Livingston, NJ | 5/19/2005
Lange, Dennis San | Mateo, CA | 5/19/2005
Langley, Troy | Erin, TN | 5/19/2005
Lester, Linda | Tucson, AZ | 5/19/2005
Leveque, Phillip | Portland, OR | 5/19/2005
Linn, David | Craig, CO | 5/19/2005
Logue, Bridgette | Shelbyville, TN | 5/19/2005
Long, Andrew | Fayetteville, NC | 5/19/2005
Lovett, Asante | Tulsa, OK | 5/19/2005
Lyde, Marlene | Norwalk, CA | 5/19/2005
Lyon, Robin | Lynnwood, WA | 5/19/2005
Machicek, Sherri | Victoria, TX | 5/19/2005
Malone, Joanne | Dallas, TX | 5/19/2005
Maloney, Jeffrey | Phoenix, AZ | 5/19/2005
Manuel, Christal | Evergreen, LA | 5/19/2005
Marshall, Brenda | Belleview, FL | 5/19/2005
Martinez, Christina | Sahuarita, AZ | 5/19/2005
Mclaurin, Mildred | Carrboro, NC | 5/19/2005
McNamara, Peggy | Puyallup, WA | 5/19/2005
Mohalla, Aiman | Long Beach, CA | 5/19/2005
Moore, Tiffany | Chandler, AZ | 5/19/2005
Morrissey, Maryellen | Ormond Beach, FL | 5/19/2005
Moss, Albert | Somerset, NJ | 5/19/2005
Mullins, Lonnie | Columbus, OH | 5/19/2005
Murphree, Arlene | Tulsa, OK | 5/19/2005
Nagel, Tiffany | League City, TX | 5/19/2005
Neide, Deborah | Umatilla, FL | 5/19/2005
Nemitz, Lacey | Mount Vernon, WA | 5/19/2005
Nenadov, Barney | Canyon Country, CA | 5/19/2005
Nesbit, Harriet | Rutland, VT | 5/19/2005
Newington, Marlene | Hartford, MI | 5/19/2005
Newmark, Malinda | Monroe TWP, NJ | 5/19/2005
Noel, Beverly | New Hall, CA | 5/19/2005
Nugent, Dana | Pineville, LA | 5/19/2005
Nunnery, Larita | Kent, WA | 5/19/2005
OBright, Teresa | W Chicago, IL | 5/19/2005
Osborne, Robelto | Miami, FL | 5/19/2005
Ottenstein, Alan | Washington Crossing, PA | 5/19/2005
Owens, Catherine | Glencoe, AL | 5/19/2005
Pagano, Dwight | New York, NY | 5/19/2005
Parker-Robinson, Letrice | Long Beach, CA | 5/19/2005
Paulsen, John | Beaver, UT | 5/19/2005
Paxton, Marla | Delong, IN | 5/19/2005
Pearson, Shirley | Rapid City, SD | 5/19/2005
Penalver, Faith | Roosevelt, NJ | 5/19/2005
Perry, Regan | Huntsville, AL | 5/19/2005
Plaia, Daneta | Hickory Hills, IL | 5/19/2005
Potter, Joan | Ventura, CA | 5/19/2005
Presilla, Alejandro | Weehawken, NJ | 5/19/2005
Ramsey, James | Concord, NH | 5/19/2005
Rice, Ginger | Newport, TN | 5/19/2005
Robinson, Anne | Redondo Beach, CA | 5/19/2005
Robles, Karin | Yelm, WA | 5/19/2005
Rodriguez, Callis | Fontana, CA | 5/19/2005
Roring, Kellie | Orem, UT | 5/19/2005
Rudolph, Angaharad | Bradenton, FL | 5/19/2005
Sanders, Cheryl | Riverside, AL | 5/19/2005
Schick, Peter | Van Nuys, CA | 5/19/2005
Schirmer, Christopher | North Bennington, VT | 5/19/2005
Schultz, Becky | Greeley, CO | 5/19/2005
Schunk, Brenda | Tucson, AZ | 5/19/2005
Sieverding, Gregory | Peru, NY | 5/19/2005
Silver, Maria | Las Vegas, NV | 5/19/2005
Simon, Lynn | Cape Coral, FL | 5/19/2005
Smith, Nicholas | Oviedo, FL | 5/19/2005
Steidl, Elizabeth | Palm Bay, FL | 5/19/2005
Stiver, Dorothea | Clanton, AL | 5/19/2005
Suggs, Sharon | Adamsville, TN | 5/19/2005
Sutphin, Mary | Goodview, VA | 5/19/2005
Swartz, Theresa | Jacksonville, FL | 5/19/2005
Taylor, Ronald | Carson, CA | 5/19/2005
Tebo, Elizabeth | Grover, MO | 5/19/2005
Thomas, Cynthia | Brooksville, FL | 5/19/2005
Turk, Harold | West Hills, CA | 5/19/2005
Valandry, Kelly | Tucson, AZ | 5/19/2005
Vaughn, Barbara | Kingsport, TN | 5/19/2005
Vidal, Emalee | Gig Harbor, WA | 5/19/2005
Vincelette, Brandi | Enosburg Falls, VT | 5/19/2005
Von Hoffen, Laura | Chicago, IL | 5/19/2005
Vu, Uong | San Diego, CA | 5/19/2005
Walker, Robert | Sand Springs, OK | 5/19/2005
Wamsley, Patricia | Mansfield, OH | 5/19/2005
Watkins, William | Vista, CA | 5/19/2005
Wilson, Michael | Chicago, IL | 5/19/2005
Wilson, Orphia | Orlando, FL | 5/19/2005
Wizes, Adrian | Lake George, NY | 5/19/2005
Wood, Danielle | Irving, TX | 5/19/2005
Wood, Margaret | Denver, CO | 5/19/2005
Wukawitz, Thomas | St Paul, MN | 5/19/2005
Zapata, Francisco | Oxnard, CA | 5/19/2005
Zini, Julie | Annandale, MN | 5/19/2005
Federal/State Exclusion/Suspension:
Gonzales, Thomas | Las Vegas, NV | 5/19/2005
Groombridge, Colleen | Gillette, WY | 5/19/2005
Umansky, Olga | Los Angeles, CA | 5/19/2005
Fraud/Kickbacks/Prohibited Acts/Settlement Agreements:
Masri, Asad | Chesterfield, VA | 10/6/1994
Owned/Controlled by Convicted Entities:
Advanced Physicians Management, Inc | Ocoee, FL | 5/19/2005
Americare Medical Supply, Inc | Los Angeles, CA | 5/19/2005
Default on Heal Loan:
Kilmer, David | Troutville, VA | 2/22/2005
Mazhar, Mark | Woodland Hills, CA | 4/18/2005

Dated: April 28, 2005.
Katherine B. Petrowski,
Director, Exclusions Staff, Office of Inspector General.

[FR Doc. 05-9374 Filed 5-10-05; 8:45 am]

BILLING CODE 4152-01-P